DEPARTMENT OF ENERGY

Federal Energy Regulatory Commission

[Docket No. CP09-449-000]

Wyoming Interstate Company, Ltd.; Notice of Intent To Prepare an Environmental Assessment for the Proposed Diamond Mountain Compressor Station Project, Request for Comments on Environmental Issues, and Notice of Site Visit

September 4, 2009.

The staff of the Federal Energy Regulatory Commission (FERC or Commission) will prepare an Environmental Assessment (EA) that will discuss the environmental impacts of the Diamond Mountain Compressor Station Project involving construction and operation of facilities by Wyoming Interstate Company, Ltd. (WIC) in Uintah County, Utah. This EA will be used by the Commission in its decision-making process to determine whether the project is in the public convenience and necessity.

This notice announces the opening of the scoping process the Commission will use to gather input from the public and interested agencies on the project. Your input will help the Commission staff determine what issues need to be evaluated in the EA. Please note that the scoping period will close on October 5, 2009.

On September 9, 2009, the Office of Energy Projects staff will conduct a site visit of WIC's Diamond Mountain Compressor Station Project in Uintah County, Utah. This site visit is being conducted to evaluate the proposed compressor station site and possible alternatives. A ground inspection will be conducted by automobile and on foot.

All interested parties are welcome, although those attending must provide their own transportation. Those interested in accompanying staff on this site visit should meet promptly at 8 a.m. (MDT) in the Best Western Dinosaur Inn lobby located at: 251 East Main Street, Vernal, Utah 84078.

For additional information, please contact the Commission's Office of External Affairs at 1-866-208-FERC.

This notice is being sent to the Commission's current environmental mailing list for the project, which includes affected landowners; Federal, State, and local government representatives and agencies; elected officials; environmental and public interest groups; Native American Tribes; parties to this proceeding; and local libraries and newspapers. State and local government representatives are asked to notify their constituents of this proposed project and encourage them to comment on their areas of concern.

If you are a landowner receiving this notice, you may be contacted by a pipeline company representative about the acquisition of an easement to construct, operate, and maintain the proposed facilities. The company would seek to negotiate a mutually acceptable agreement. However, if the project is approved by the Commission, that approval conveys with it the right of eminent domain. Therefore, if easement negotiations fail to produce an agreement, the pipeline company could initiate condemnation proceedings in accordance with State law.

A fact sheet prepared by the FERC entitled “An Interstate Natural Gas Facility On My Land? What Do I Need To Know?” is available for viewing on the FERC Internet Web site (http://www.ferc.gov). This fact sheet addresses a number of typically-asked questions, including the use of eminent domain and how to participate in the Commission's proceedings.

Summary of the Proposed Project

WIC proposes to construct and operate the new Diamond Mountain Compressor Station in Uintah County, Utah. The compressor station would contain two site-rated 9,262-horsepower Solar Taurus 70 compressor units. The proposed facilities would provide an additional 180,000 dekatherms per day of capacity on WIC's Kanda Lateral natural gas pipeline. The proposed station site is shown on figure 1 of appendix 1.¹

¹ The appendices referenced in this notice are not being published in the Federal Register. Copies of appendices were sent to all those receiving this notice by mail and are available at http://www.ferc.gov at the link called “eLibrary” or from the Commission's Public Reference Room, 888 First Street, NE., Washington, DC 20426, or call (202) 502-8371. For instructions on connecting to eLibrary, refer to the last page of this notice.

Land Requirements for Construction

The proposed compressor station would be on approximately 15.3 acres of Federal land managed by the Bureau of Land Management's (BLM) Vernal Field Office. Of the 15.3 acres, 8.2 acres of land would be permanently maintained for operation of the compressor station and an access road to enter the facility.

The EA Process

The National Environmental Policy Act requires the Commission to take into account the environmental impacts that could result from an action whenever it considers the issuance of a Certificate of Public Convenience and Necessity. NEPA also requires us ² to discover and address concerns the public may have about proposals. This process is referred to as “scoping.” The main goal of the scoping process is to focus the analysis in the EA on the important environmental issues. By this notice, the Commission requests public comments on the scope of the issues to address in the EA. All comments received will be considered during the preparation of the EA.

² “We,” “us,” and “our” refer to the environmental staff of the Commission's Office of Energy Projects.

In the EA, we will discuss impacts that could occur as a result of the construction and operation of the proposed project under these general headings:

• Geology and soils;

• Water resources, fisheries, and wetlands;

• Cultural resources;

• Vegetation and wildlife;

• Threatened and endangered species;

• Land use, recreational, and visual resources;

• Air quality and noise; and

• Public safety.

We will also evaluate possible alternatives to the proposed project site and make recommendations on how to lessen or avoid impacts on the various resource areas.

Our independent analysis of the issues will be presented in the EA. Depending on the comments received during the scoping process, the EA may be published and mailed to those on our mailing list (see discussion of how to remain on our mailing list on page 5). A comment period will be allotted for review if the EA is published. We will consider all comments on the EA before we make our recommendations to the Commission. To ensure your comments are considered, please carefully follow the instructions in the Public Participation discussion.

With this notice, we are asking agencies with jurisdiction and/or special expertise with respect to environmental issues to formally cooperate with us in the preparation of the EA. These agencies may choose to participate once they have evaluated the proposal relative to their responsibilities. Agencies that would like to request cooperating agency status should follow the instructions for filing comments provided under the Public Participation section of this notice. The Vernal Field Office of the BLM has already indicated that it would like to cooperate with us in preparing the EA.

Currently Identified Environmental Issues

We have already identified issues that we think deserve attention based on our preliminary review of the project site. This preliminary list of issues may change based on your comments and our analysis.

• Potential impact on Federally and State-listed species.

• Potential impact to noise quality associated with construction and operation of the compressor station.

The proposed compressor station site lies within 2 miles of 3 sage grouse leks. Federal agencies, including the U.S. Fish and Wildlife Service (FWS), have expressed concern with this location and requested that the Commission review alternative sites that may have less of an impact on the environment. Private landowners who would be affected by any of the alternative sites have been included on our mailing list. Alternative sites are presented in figure 2 of appendix 1.

Public Participation

You can make a difference by providing us with your specific comments or concerns about the Diamond Mountain Compressor Station Project. Your comments should focus on the potential environmental effects, reasonable alternatives, and measures to avoid or lessen environmental impacts. The more specific your comments, the more useful they will be. To ensure that your comments are timely and properly recorded, please send your comments so that they will be received in Washington, DC on or before October 5, 2009.

For your convenience, there are three methods which you can use to submit your comments to the Commission. The Commission encourages electronic filing of comments and has dedicated eFiling expert staff available to assist you at 202-502-8258 or efiling@ferc.gov.

(1) You may file your comments electronically by using the Quick Comment feature, which is located at http://www.ferc.gov under the “Documents and Filings” link. A Quick Comment is an easy method for interested persons to submit text-only comments on a project;

(2) You may file your comments electronically by using the eFiling feature under the “Documents and Filings” link. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments with the Commission via mail by sending an original and two copies of your letter to: Kimberly D. Bose, Secretary, Federal Energy Regulatory Commission, 888 First Street, NE., Room 1A, Washington, DC 20426.

In all instances, please reference the project docket number (CP09-449-000) with your submission. Label one copy of the comments for the attention of Gas Branch 1, PJ-11.1.

Environmental Mailing List

An effort is being made to send this notice to all individuals, organizations, and government entities interested in and/or potentially affected by the proposed project. This includes all landowners who own homes within a certain distance (as defined in the Commission's regulations) of the proposed and alternative compressor station sites.

If you do not want to send comments at this time but still want to remain on our mailing list, please return the Environmental Mailing List form (appendix 2). If you do not return the Information Request, you will be taken off the mailing list.

Becoming an Intervenor

In addition to involvement in the EA scoping process, you may want to become an “intervenor,” which is an official party to the Commission's proceeding. Intervenors play a more formal role in the process and are able to file briefs, appear at hearings, and be heard by the courts if they choose to appeal the Commission's final ruling. An intervenor formally participates in a Commission proceeding by filing a request to intervene. Instructions for becoming an intervenor are included in the User's Guide under the “eFiling” link on the Commission's Web site.

Additional Information

Additional information about the project is available from the Commission's Office of External Affairs, at 1-866-208-FERC or on the Internet at http://www.ferc.gov using the “eLibrary” link. Click on the eLibrary link, then on “General Search” and enter the docket number, excluding the last three digits (i.e., CP09-449), in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Kimberly D. Bose,
Secretary.

[FR Doc. E9-22085 Filed 9-14-09; 8:45 am]

BILLING CODE 6717-01-P